DEPARTMENT OF HOMELAND SECURITY

Federal Emergency Management Agency

[Docket ID: FEMA-2025-0245; OMB No. 1660-0117]

Agency Information Collection Activities: Proposed Collection, Comment Request; FEMA's Grants Reporting Tool (GRT)

AGENCY: Federal Emergency Management Agency, Department of Homeland Security.

ACTION: 60-Day notice of extension and request for comments.

SUMMARY: The Federal Emergency Management Agency (FEMA), as part of its continuing effort to reduce paperwork and respondent burden, invites the general public to take this opportunity to comment on an extension of a currently approved information collection. In accordance with the requirements of the Paperwork Reduction Act of 1995, this notice seeks comments concerning the extension of this Information Collection Activities for the Grants Reporting Tool (GRT). The GRT is a web-based reporting system designed to help State, local, Tribal, and territorial (SLTT) grant recipients meet all reporting requirements as identified in the grant guidance of FEMA's portfolio of preparedness grants managed by the FEMA's Grant Programs Directorate (GPD), to include the Homeland Security Grant Program (HSGP), the Nonprofit Security Grant Program (NSGP), the Tribal Homeland Security Grant Program (THSGP), and the Emergency Management Performance Grant Program (EMPG).

DATES: Comments must be submitted on or before April 13, 2026.

ADDRESSES: To avoid duplicate submissions to the docket, please submit comments at http://www.regulations.gov under Docket ID FEMA-2025-0245. Follow the instructions for submitting comments.

All submissions received must include the Agency name and Docket ID. Regardless of the method used to submitting comments or material, all submissions will be posted, without change, to the Federal eRulemaking Portal at http://www.regulations.gov, and will include any personal information you provide. Therefore, submitting this information makes it public. You may wish to read the Privacy and Security Notice that is available via a link on the homepage of http://www.regulations.gov.

FOR FURTHER INFORMATION CONTACT: Richard Moore, GRT System Owner, FEMA Resilience Grants Technology Directorate, 202-531-0572, and richard.moore.2@fema.dhs.gov. You may contact the Information Management Division for copies of the proposed collection of information at email address: FEMA-Information-Collections-Management@fema.dhs.gov.

SUPPLEMENTARY INFORMATION: The GRT is a web-based reporting system designed to help SLTT grant recipients meet all reporting requirements as identified in the grant guidance of FEMA's portfolio of preparedness grants sponsored by FEMA's GPD. The purpose of the GRT collection is to satisfy FEMA's statutory requirement to monitor the use of FEMA grant funds by its SLTT grant recipients.

Title 2 CFR part 200, Uniform Administrative Requirements, Cost Principles, and Audit Requirements for Federal Awards, establishes uniform administrative requirements, cost principles, and audit requirements for FEMA. Title XX of the Homeland Security Act of 2002 authorizes the Secretary of Homeland Security, acting through the FEMA Administrator, to provide grants to assist SLTT governments in preventing, preparing for, protecting against, and responding to acts of terrorism. Recipients use the GRT to submit annual investment justifications and biannual progress reports. Further, section 2022 of the Homeland Security Act of 2002 (6 U.S.C. 612) mandates that FEMA review grants awarded to States and high-risk urban areas at least every two years and requires that recipients submit annual reports on the use of funds awarded under sections 2003 or 2004 of the Homeland Security Act of 2002 (6 U.S.C. 604, 605, respectively). Section 2022 also provides the Department of Homeland Security (DHS) the authority to have full access to information regarding activities carried out under any grant DHS administers.

Additionally, Section 662 of the Post-Katrina Emergency Management Reform Act of 2006 (PKEMRA), as amended, (Pub. L. 109-295) (6 U.S.C. 762); the Robert T. Stafford Disaster Relief and Emergency Assistance Act, as amended (Pub. L. 93-288) (42 U.S.C. 5121 et seq.); the Earthquake Hazards Reduction Act of 1977, as amended (Pub. L. 95-124) (42 U.S.C. 7701 et seq.); and the National Flood Insurance Act of 1968, as amended (Pub. L. 90448) (42 U.S.C. 4001 et seq.) authorize FEMA to administer the EMPG Program. Recipients use the GRT to submit biannual progress reports.

Collection of Information

Title: FEMA's Grants Reporting Tool (GRT).

Type of Information Collection: Extension, without change, of a currently approved information collection.

OMB Number: 1660-0117.

FEMA Forms: FEMA Form FF-207-FY-22-121, Biannual Strategy Implementation Report (BSIR).

Abstract: The GRT is a web-based reporting system designed to help State Administrative Agencies (SAAs) and directly eligible SLTT Governments meet all reporting requirements as identified in the grant guidance of FEMA's portfolio of preparedness grants sponsored by FEMA's Grant Programs Directorate (GPD). The information enables FEMA to evaluate applications and make award decisions, monitor ongoing performance, and manage the flow of Federal funds, and to appropriately close out grants. GRT supports the information collection needs of each grant program processed in the system.

Affected Public: State, Local or Tribal Government.

Estimated Number of Respondents: 81.

Estimated Number of Responses: 162.

Estimated Total Annual Burden Hours: 2,471.

Estimated Total Annual Respondent Cost: $130,741.

Estimated Respondents' Operation and Maintenance Costs: $0.

Estimated Respondents' Capital and Start-Up Costs: $0.

Estimated Total Annual Cost to the Federal Government: $1,281,820.

Comments

Comments may be submitted as indicated in the ADDRESSES caption above. Comments are solicited to (a) evaluate whether the proposed data collection is necessary for the proper performance of the Agency, including whether the information shall have practical utility; (b) evaluate the accuracy of the Agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Nigel S. Allicock,
Records Management Branch Chief, Office of the Chief Administrative Officer, Mission Support, Federal Emergency Management Agency, Department of Homeland Security.

[FR Doc. 2026-02681 Filed 2-10-26; 8:45 am]

BILLING CODE 9111-78-P